THE NATIONAL FOUNDATION ON THE ARTS AND HUMANITIES

Proposed Collection, Library Workforce Study, Submission for OMB Review

AGENCY: Agency Institute of Museum and Library Services.

ACTION: Notice of requests for new information collection approval.

SUMMARY: The Institute of Museum and Library Services announces the following information collection has been submitted to the Office of Management and Budget for review and approval in accordance with the Paperwork Reduction Act of 1995 (Pub. L. 104-13, 44 U.S.C. Chapter 35). A copy of the proposed information collection request can be obtained by contacting the individual listed below in the addressee section of this notice.

DATES: Written comments must be submitted to the office listed in the addressee section below on or before January 23, 2006. IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Rebecca Danvers, Director of Research and Technology, Institute of Museum and Library Services, 1800 M Street NW., 9th Floor, Washington, DC, 20036; telephone 202-653-4680, fax 202-653-4625, e-mail rdanvers@imls.gov

SUPPLEMENTARY INFORMATION:

I. Background

The Institute of Museum and Library Services is an independent Federal grant-making agency authorized by the Museum and Library Services Act, 20 U.S.C. Section 9101 et seq. The IMLS provides a variety of grant programs to assist the nation's museums and libraries in improving their operations and enhancing their services to the public. Museums and libraries of all sizes and types may receive support from IMLS programs. The Museum and Library Services Act of 2003 includes a strong emphasis on supporting library services through the development of a strong library workforce. This solicitation is a web-based survey to collect information to assist IMLS understand library and information science (LIS) workforce needs, including supply and demand, factors that affect them, and existing workforce projections.

II. Current Action

The core duties of the Institute of Museum and Library Services, as stated in its strategic plan, are to promote excellence in library services and to promote access to museum and library services for a diverse public. This goal will be accomplished in part by promoting improved workforce planning including strategies for recruitment and retention of workers. IMLS is developing specific plans to collect information from libraries, librarians and other information professionals. Information to be collected from libraries includes current and projected employment in terms of numbers of positions (filled and vacant), functional specialization, educational requirements, skill/competency requirements, salaries and benefits, demographics, annual budget/expenditures, constituency or market size. Information to be collected from LIS professionals includes current employment, career path and career progression, professional association/union membership and demographics. These information collections will be based on geographic location (state and locality), type of employing organization and functionality of the work. A great deal of information has been collected on the LIS workforce, e.g. by BLS, NCES and professional societies. The information IMLS collects should build on, but not duplicate, existing or ongoing collections.

Agency: Institute of Museum and Library Services.

Title: National Study on the Future of Librarians in the Workforce.

OMB Number: n/a.

Agency Number: 3137.

Frequency: One time.

Affected Public: Libraries, librarians and other information professionals.

Number of Respondents: 40,000 libraries, 40,000 LIS professionals.

Estimated Time Per Respondent: maximum of 2 hours per library (for the 27,000 central and single the time is up to two hours and for 13,000 branch libraries the time is less than one hour); 15 minutes per librarian/information professional.

Total Burden Hours: 77,000.

Total Annualized Capital/Startup costs: 0.

Total Annual Costs: $166,295.

Contact: Rebecca Danvers, Director of Research and Technology, Institute of Museum and Library Services, 1800 M Street NW., 9th Floor, Washington, DC, 20036; telephone 202-653-4680, fax 202-653-4625, e-mail rdanvers@imls.gov

Dated: December 20, 2005.
Rebecca Danvers,
Director, Office of Research and Technology.

[FR Doc. 05-24406 Filed 12-22-05; 8:45 am]

BILLING CODE 7036-01-M